ENVIRONMENTAL PROTECTION AGENCY

[EPA-HQ-OW-2013-0280; FRL-9845-3]

40 CFR Part 147

North Dakota Underground Injection Control Program Revision Application

AGENCY: Environmental Protection Agency (EPA).

ACTION: Notice of public comment period and opportunity to request a public hearing.

SUMMARY: In accordance with 40 CFR section 145.32(b)(2), the Environmental Protection Agency (EPA) hereby gives public notice that the EPA has received a complete program revision package from the State of North Dakota requesting approval of a revision to its section 1422 Underground Injection Control (UIC) program to include Class VI primacy; that the EPA has determined the application contains all the required elements; that the application is available for inspection and copying at the address appearing below and public comments are requested and any member of the public may request a public hearing.

This revision would allow the North Dakota Industrial Commission (NDIC) to issue UIC permits for carbon geo-sequestration facilities as Class VI wells under the UIC program.

DATES: Comments will be accepted until September 9, 2013. Any member of the public can request a public hearing on this matter. A public hearing will only be held if requests indicate there is significant public interest. Request for a public hearing will be accepted until September 9, 2013. Requests for a public hearing may be mailed to: Craig Boomgaard EPA Region 8, 1595 Wynkoop Street, MSC 8P-W-UIC, Denver, Colorado, 80202. For additional information regarding the public hearing, please contact Craig Boomgaard (303) 312-6794 or boomgaard.craig@epa.gov.

ADDRESSES: Submit your comments, identified by Docket ID No. EPA-HQ-OW-2013-0280, by one of the following methods:

• www.regulations.gov: Follow the on-line instructions for submitting comments.

• Email: Boomgaard.Craig@epa.gov.

• Fax: (303) 312-7084.

• Mail: North Dakota Underground Injection Control Program Revision Application to add Class VI wells to its § 1422 program, Environmental Protection Agency, Mailcode: 2822T, 1200 Pennsylvania Avenue NW., Washington, DC 20460.

• Hand Delivery: Water Docket, EPA Docket Center (EPA/DC) EPA West, Room 3334, 1301 Constitution Ave. NW., Washington, DC. Such deliveries are only accepted during the Docket's normal hours of operation, and special arrangements should be made for deliveries of boxed information.

Instructions: Requests for a public hearing may be mailed to Craig Boomgaard, Underground Injection Control Unit, Environmental Protection Agency, Region 8, 1595 Wynkoop Street, MSC 8P-W-UIC, Denver, Colorado 80202. Direct your comments to Docket ID No. EPA-HQ-OW-2013-0280. The EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means the EPA will not know your identity or contact information unless you provide it in the body of your comment. If you send an email comment directly to the EPA without going through www.regulations.gov your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. For additional information about the EPA's public docket, visit the EPA Docket Center homepage at http://www.epa.gov/epahome/dockets.htm or the SUPPLEMENTARY INFORMATION section of this document.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov and http://www2.epa.gov/region8/underground-injection-control or in hard copy at the following locations:

(1) Environmental Protection Agency, Region 8, Library, 2nd Floor, 1595 Wynkoop Street Denver, Colorado 80202. The Library is open from 9:00 a.m. to 12:00 p.m. and 1:00 p.m.-4:00 p.m. Monday through Thursday, excluding legal holidays. The telephone number for the Library is (303) 312-7226.

(2) North Dakota Industrial Commission, Oil and Gas Division 1016 East Calgary Avenue, Bismarck, North Dakota 58503. The Office is open from 8:00 a.m. to 12:00 p.m. and 1:00 p.m.-5:00 p.m. Monday through Friday, excluding legal holidays. Please contact Kevin Connors at (701) 328-8020.

(3) North Dakota Underground Injection Control Program Revision Application to add Class VI wells to its § 1422 program: EPA West, Room 3334, 1301 Constitution Ave. NW., Washington, DC. The Public Reading Room is open from 8:30 a.m. to 4:30 p.m., Monday through Friday, excluding legal holidays. The telephone number for the Public Reading Room is (202) 566-1744, and the telephone number for the OW Docket is (202) 566-2426.

FOR FURTHER INFORMATION CONTACT: Craig Boomgaard, Underground Injection Control Unit, Environmental Protection Agency, Region 8, MSC 8P-W-UIC, 1595 Wynkoop Street, Denver, Colorado 80202; telephone number: (303) 312-6794; fax number: (303) 312-7084; email address: boomgaard.craig@epa.gov. Comments should also be sent to this address.

SUPPLEMENTARY INFORMATION: The UIC program revision package from the State of North Dakota includes a description of the State Underground Injection Control program, copies of all applicable rules and forms, a statement of legal authority, a Memorandum of Agreement between the State of North Dakota and the Region 8 office of the Environmental Protection Agency, and a MOU between the North Dakota Industrial Commission and the Department of Health.

Dated: July 22, 2013.
Shaun L. McGrath,
Regional Administrator, Region 8.

[FR Doc. 2013-19376 Filed 8-8-13; 8:45 am]

BILLING CODE 6560-50-P